DEPARTMENT OF JUSTICE

Notice of Filing of Environmental Response Trust Agreement Under the Resource Conservation and Recovery Act

On February 17, 2016, an Environmental Response Trust Agreement (“Agreement”) was filed with the District Court of the U.S. Virgin Islands, Bankruptcy Division—St. Croix, Virgin Islands, in the bankruptcy proceeding entitled In re HOVENSA L.L.C., No. 1-15-10003-MFW (Docket No. 626).

Under the Agreement, tan Environmental Response Trust is being created to implement environmental remediation at the refinery formerly owned by Hovensa L.L.C. (“Hovensa”) in St. Croix, U.S. Virgin Islands, and also to take title to certain property previously owned by Hovensa located at the refinery. The Environmental Response Trust will have access to approximately $72 million to perform the environmental actions. The Court has appointed Project Navigator, Ltd., to act as the Environmental Response Trustee. Under the Agreement, the United States, on behalf of the United States Environmental Protection Agency, has provided a covenant not to sue to the Environmental Response Trust Parties (as that term is defined in the Environmental Response Trust Agreement), pursuant to Sections 3008(a) and 7003 of Resource Conservation and Recovery Act (“RCRA”), 42 U.S.C. 6928(a) and 6973, and sections 106 and 107 of the Comprehensive Environmental Response, Compensation and Liability Act, 42 U.S.C. 9606 and 0607, for corrective actions, permit obligations, response actions or response costs related to the former Hovensa refinery.

Pursuant to Section 7003(d) of RCRA, 42 U.S.C. 6973(d), the United States is taking public comment on the covenant not to sue provided by the United States to the Environmental Response Trust Parties in the Agreement. The publication of this notice opens a period for public comment on the covenant not to sue provided by the United States to the Environmental Response Trust Parties in the Agreement. Comments should be addressed to the Assistant Attorney General, Environment and Natural Resources Division, and should refer to In re HOVENSA L.L.C., D.J. Ref. No. 90-5-2-1-08229/2. All comments must be submitted so that they are received no later than midnight (Eastern Time) March 1, 2016. Comments may be submitted either by email or by mail:

To submit comments: | Send them to:
By email | pubcomment-ees.enrd@usdoj.gov.
By mail | Assistant Attorney General U.S. DOJ—ENRD P.O. Box 7611 Washington, DC 20044-7611.

Under section 7003(d) of RCRA, a commenter may request an opportunity for a public meeting in the affected area.

During the public comment period, the Agreement may be examined and downloaded at this Justice Department Web site: http://www.justice.gov/enrd/consent-decrees. We will provide a paper copy of the Agreement upon written request and payment of reproduction costs. Please mail your request and payment to: Consent Decree Library, U.S. DOJ—ENRD, P.O. Box 7611, Washington, DC 20044-7611.

Please enclose a check or money order for $13.00 (25 cents per page reproduction cost) payable to the United States Treasury.

Robert E. Maher Jr.,
Assistant Section Chief, Environmental Enforcement Section, Environment and Natural Resources Division.

[FR Doc. 2016-03728 Filed 2-22-16; 8:45 am]

BILLING CODE 4410-15-P